DEPARTMENT OF HEALTH AND HUMAN SERVICES

National Institutes of Health

Request for Information for a Review of the NIH HIV/AIDS Research Priorities and Guidelines for Determining AIDS Funding Document

AGENCY: National Institutes of Health, HHS.

ACTION: Notice.

SUMMARY: Through this Request for Information (RFI), the Office of AIDS Research (OAR) in the Division of Program Coordination, Planning, and Strategic Initiatives (DPCPSI), Office of the Director (OD), National Institutes of Health (NIH) invites feedback from interested stakeholders on a review of the NIH HIV/AIDS Research Priorities and Guidelines for Determining AIDS Funding (NOT-OD-15-137) now entering year four of implementation. The original Notice was released on August 12, 2015 to inform the scientific community of the overarching HIV/AIDS research priorities and the guidelines used by NIH to determine HIV/AIDS funding beginning in fiscal year 2016 for the next three to five years.

DATES: After the public comment period has closed, all feedback received will be reviewed by the OAR and will be considered in the development of the next iteration of the NIH Research Priorities and Funding Guidance Document that will apply for the period of FY 2021 through FY 2025.

ADDRESSES: Submissions may be electronically entered at (http://grants.nih.gov/grants/rfi/rfi.cfm?ID=85).

FOR FURTHER INFORMATION CONTACT: Questions about this request for information should be directed to Dr. Stacy Carrington-Lawrence, Office of AIDS Research, National Institutes of Health, Telephone: 301-496-3677, Email: OAR_Priorities_RFI@nih.gov, 5601 Fishers Lane Rockville, Maryland 20852.

SUPPLEMENTARY INFORMATION: To respond this RFI, go to the following Web address. (http://grants.nih.gov/grants/rfi/rfi.cfm?ID=85).

As legislatively mandated, OAR plans and coordinates research through the development of an annual NIH Strategic Plan for HIV and HIV-Related Research that articulates the overarching HIV research priorities and serves as the framework for developing the overall NIH HIV research budget. OAR oversees and coordinates the conduct and support of all HIV research activities across the NIH Institutes and Centers (ICs). The NIH-sponsored HIV research programs include both extramural and intramural research, buildings and facilities, research training, program evaluation, and supports a comprehensive portfolio of research representing a broad range of basic, clinical, behavioral, social sciences, and translational research on HIV and its associated coinfections and comorbidities.

The Plan provides information about the NIH's HIV research priorities to the scientific community, Congress, community stakeholders, HIV-affected communities, and the broad public at large. The fiscal years 2019-2020 NIH Strategic Plan for HIV-Related Research was recently distributed and is available on the OAR website: (FY2019-2020 NIH Strategic Plan for HIV and HIV-Related Research).

The current overarching priorities for HIV/AIDS research are defined in the NIH Director's Statement of August 12, 2015 and Guide Notice NOT-OD-15-137 (https://grants.nih.gov/grants/guide/notice-files/NOT-OD-15-137.html).

High Priority topics of research for support include:

(1) Reducing the incidence of HIV/AIDS.

(2) Developing the next generation of HIV therapies.

(3) Identifying strategies towards a cure.

(4) Improving the prevention and treatment of HIV-associated comorbidities, coinfections, and complications.

(5) Cross-cutting areas that includes basic research, behavioral and social sciences research, health disparities, trainings, capacity-building and infrastructure.

This RFI is for planning purposes only and should not be construed as a solicitation for applications or proposals, or as an obligation in any way on the part of the United States federal government. The federal government will not pay for the preparation of any information submitted or for the government's use. Additionally, the government cannot guarantee the confidentiality of the information provided.

Dated: February 4, 2019.
Lawrence A. Tabak,
Deputy Director, National Institutes of Health.

[FR Doc. 2019-02027 Filed 2-11-19; 8:45 am]

BILLING CODE 4140-01-P